DEPARTMENT OF COMMERCE

International Trade Administration

[C-570-968]

Aluminum Extrusions From the People's Republic of China: Final Results of Countervailing Duty Administrative Review and Rescission of Review, in Part; 2017

AGENCY: Enforcement and Compliance, International Trade Administration, Department of Commerce.

SUMMARY: The Department of Commerce (Commerce) determines that exporters and/or producers subject to this administrative review received countervailable subsidies during the period of review (POR) January 1, 2017 through December 31, 2017.

DATES: Applicable July 22, 2019.

FOR FURTHER INFORMATION CONTACT: Davina Friedmann AD/CVD Operations, Office VI, Enforcement and Compliance, International Trade Administration, U.S. Department of Commerce, 1401 Constitution Avenue NW, Washington, DC 20230; telephone: (202) 482-0698.

SUPPLEMENTARY INFORMATION:

Background

Commerce published the Preliminary Results of this administrative review in the Federal Register on March 15, 2019.¹ We invited parties to comment on the Preliminary Results. No interested party submitted comments or requested a hearing in this administrative review. Commerce conducted this review in accordance with section 751(a)(1)(A) of the Tariff Act of 1930, as amended (the Act).

¹ See Aluminum Extrusions from the People's Republic of China: Preliminary Results of the Countervailing Duty Administrative Review, Rescission of Review, in Part, and Intent to Rescind, in Part; 2017, 84 FR 9487 (March 15, 2019) (Preliminary Results) and accompanying Preliminary Decision Memorandum.

Commerce exercised its discretion to toll all deadlines affected by the partial federal government closure from December 22, 2018 through the resumption of operations on January 29, 2019.² If the new deadline falls on a non-business day, in accordance with Commerce's practice, the deadline will become the next business day. Accordingly, the revised deadline for the final results of this administrative review is now July 15, 2019.

² See Memorandum to the Record from Gary Taverman, Deputy Assistant Secretary for Antidumping and Countervailing Duty Operations, performing the non-exclusive functions and duties of the Assistant Secretary for Enforcement and Compliance, “Deadlines affected by the Partial Shutdown of the Federal Government,” dated January 28, 2019. All deadlines in this segment of the proceeding have been extended by 40 days.

Scope of the Order

The product covered by the Order is aluminum extrusions from the People's Republic of China. The complete description of the scope is provided at Appendix I of this notice.

Methodology

For each of the subsidy programs we found to be countervailable, we determined that there is a subsidy, i.e., a government-provided financial contribution that gives rise to a benefit to the recipient, and that the subsidy is specific.³ For additional details, see the Preliminary Results and accompanying Preliminary Decision Memorandum.

³ See sections 771(5)(B) and (D) of the Act regarding financial contribution, section 771(5)(E) of the Act regarding benefit, and section 771(5A) of the Act regarding specificity.

Changes Since the Preliminary Results

As no party submitted comments on the methodology used in calculating the adverse facts available subsidy rates assigned in the Preliminary Results, Commerce made no adjustments to that methodology in the final results of this review.

Rescission of Review

In the Preliminary Results, we stated our intention to rescind the review with respect to companies named in the Initiation Notice for which all review requests were timely withdrawn in accordance with 19 CFR 351.213(d)(1). These companies are listed in the Appendix II to this notice. No interested party commented on our intent to rescind with respect to these companies. Therefore, we are rescinding the administrative review of the countervailing duty order on aluminum extrusions from China, in part, covering the period January 1, 2017 through December 31, 2017, for the companies listed in Appendix II. For these companies, Commerce will assess duties at rates equal to the rates of the cash deposits for estimated countervailing duties required at the time of entry, or withdrawn from warehouse, for consumption, during the POR, in accordance with 19 CFR 351.212(c)(2).⁴

⁴ See Preliminary Results, 84 FR at 9485, 9487.

Final Results of Administrative Review

In accordance with 19 CFR 351.221(b)(5), we determine the following final net subsidy rates for the 2017 administrative review: ⁵

⁵ See Preliminary Results; see also Memorandum, “Administrative Review of Countervailing Duty Order on Aluminum Extrusions from the People's Republic of China: AFA Calculation Memorandum for the Final Results of Review; 2017.”

Company | Final ad valorem rate
Anshan Zhongjda Industry Co. Ltd | 216.61
Foshan Sanshui Fenglu Aluminum Co | 216.61
Jangho Curtain Wall Hong Kong Ltd | 216.61
Sihui Shi Guoyao Aluminum Co., Ltd | 216.61
Sincere Profit Ltd | 216.61

Assessment Rates

Commerce intends to issue appropriate assessment instructions directly to Customs and Border Protection (CBP), 15 days after publication of these final results of review, to liquidate shipments of subject merchandise entered, or withdrawn from warehouse, for consumption on or after January 1, 2017 through December 31, 2017, at the ad valorem rates listed above.

Cash Deposit Requirements

Commerce also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

We are issuing and publishing these results in accordance with sections 751(a)(1) and 777(i)(1) of the Act.

Dated: July 15, 2019.
Jeffrey I. Kessler,
Assistant Secretary for Enforcement and Compliance.

Appendix I

The merchandise covered by the order is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (drawn aluminum) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including brightdip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation. The following aluminum extrusion products are excluded: Aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the orders merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 millimeters (“mm”) or 62 mm, (2) outer diameter of 11.0 mm or 12.7 mm, and (3) wall thickness not exceeding 0.13 mm.

Also excluded from the scope of this order are finished heat sinks. Finished heat sinks are fabricated heat sinks made from aluminum extrusions the design and production of which are organized around meeting certain specified thermal performance requirements and which have been fully, albeit not necessarily individually, tested to comply with such requirements.

Imports of the subject merchandise are provided for under the following categories of the Harmonized Tariff Schedule of the United States (HTSUS): 8541.90.00.00, 8708.10.30.50, 8708.99.68.90, 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this order is dispositive.

Appendix II

List of Companies for Which We Are Rescinding This Administrative Review

1. Acro Import and Export Co.

2. Activa International Inc.

3. Activa Leisure Inc.

4. Allied Maker Limited

5. Alnan Aluminum Co., Ltd.

6. Alnan Aluminum Ltd.

7. Aluminicaste Fundicion de Mexico

8. AMC Ltd.

9. AMC Limited

10. Anji Chang Hong Chain Manufacturing

11. Aoda Aluminum (Hong Kong) Co., Limited

12. AsiaAlum Group

13. Atlas Integrated Manufacturing Ltd.

14. Belton (Asia) Development Limited

15. Belton (Asia) Development Ltd.

16. Birchwoods (Lin'an) Leisure Products Co., Ltd.

17. Bolnar Hong Kong Ltd.

18. Bracalente Metal Products (Suzhou) Co., Ltd.

19. Brilliance General Equipment Co., Ltd.

20. Changshu Changshen Aluminum Products Co., Ltd.

21. Changshu Changsheng Aluminum Products Co., Ltd.

22. Changzhou Changzhen Evaporator Co., Ltd.

23. Changzhou Changzheng Evaporator Co., Ltd.

24. Changzhou Tenglong Auto Accessories Manufacturing Co. Ltd

25. Changzhou Tenglong Auto Parts Co., Ltd.

26. Changzhou Tenglong Auto Parts Co Ltd

27. China Square

28. China Square Industrial Co.

29. China Square Industrial Ltd.

30. China Zhongwang Holdings, Ltd.

31. Chiping One Stop Industrial & Trade Co., Ltd.

32. Classic & Contemporary Inc.

33. Clear Sky Inc.

34. Cosco (J.M.) Aluminum Co., Ltd.

35. Cosco (JM) Aluminum Development Co. Ltd

36. Dalian Huacheng Aquatic Products

37. Dalian Liwang Trade Co., Ltd.

38. Danfoss Micro Channel Heat Exchanger (Jia Xing) Co., Ltd.

39. Daya Hardware Co. Ltd.

40. Dongguan Dazhan Metal Co., Ltd.

41. Dongguang Aoda Aluminum Co., Ltd.

42. Dongguan Golden Tiger Hardware Industrial Co., Ltd.

43. Dragonluxe Limited

44. Dynabright International Group (HK) Ltd.

45. Dynamic Technologies China

46. ETLA Technology (Wuxi) Co. Ltd.

47. Ever Extend Ent. Ltd.

48. Fenghua Metal Product Factory

49. First Union Property Limited

50. FookShing Metal & Plastic Co. Ltd.

51. Foreign Trade Co. of Suzhou New & High-Tech Industrial Development Zone

52. Foshan City Nanhai Hongjia Aluminum Alloy Co., Ltd.

53. Foshan Golden Source Aluminum Products Co., Ltd.

54. Foshan Guangcheng Aluminium Co., Ltd

55. Foshan Jinlan Aluminum Co. Ltd.

56. Foshan JinLan Aluminum Co., Ltd.

57. Foshan JMA Aluminum Company Limited

58. Foshan Nanhai Niu Yuan Hardware Product Co., Ltd.

59. Foshan Shunde Aoneng Electrical Appliances Co., Ltd

60. Foshan Yong Li Jian Aluminum Co., Ltd.

61. Fujian Sanchuan Aluminum Co., Ltd.

62. Fukang Aluminum & Plastic Import and Export Co., Ltd.

63. Fuzhou Sunmodo New Energy Equipment

64. Gaotang Xinhai Economy & Trade Co., Ltd.

65. Genimex Shanghai, Ltd.

66. Global Hi-Tek Precision Co. Ltd

67. Global PMX Dongguan Co., Ltd.

68. Global Point Technology (Far East) Limited

69. Gold Mountain International Development, Ltd.

70. Golden Dragon Precise Copper Tube Group, Inc.

71. Gran Cabrio Capital Pte. Ltd.

72. Gree Electric Appliances

73. GT88 Capital Pte. Ltd.

74. Guang Ya Aluminium Industries Co. Ltd.

75. Guang Ya Aluminum Industries Company Ltd

76. Guang Ya Aluminium Industries (HK) Ltd.

77. Guangcheng Aluminum Co., Ltd.

78. Guangdong Hao Mei Aluminum Co., Ltd.

79. Guangdong Jianmei Aluminum Profile Company Limited

80. Guangdong JMA Aluminum Profile Factory (Group) Co., Ltd.

81. Guangdong Midea

82. Guangdong Midea Microwave and Electrical Appliances

83. Guangdong Nanhai Foodstuffs Imp. & Exp. Co., Ltd.

84. Guangdong Weiye Aluminum Factory Co., Ltd.

85. Guangdong Whirlpool Electrical Appliances Co., Ltd.

86. Guangdong Xingfa Aluminum Co., Ltd.

87. Guangdong Xin Wei Aluminum Products Co., Ltd.

88. Guangdong Yonglijian Aluminum Co., Ltd.

89. Guangdong Zhongya Aluminum Company Ltd.

90. Guangzhou Jangho Curtain Wall System Engineering Co., Ltd.

91. Guangzhou Mingcan Die-Casting Hardware Products Co., Ltd.

92. Hangzhou Xingyi Metal Products Co., Ltd.

93. Hanwood Enterprises Limited

94. Hanyung Alcoba Co., Ltd.

95. Hanyung Alcobis Co., Ltd.

96. Hanyung Metal (Suzhou) Co., Ltd.

97. Hao Mei Aluminum Co., Ltd.

98. Hao Mei Aluminum International Co., Ltd.

99. Hebei Xusen Wire Mesh Products Co., Ltd.

100. Henan New Kelong Electrical Appliances Co., Ltd.

101. Henan Zhongduo Aluminum Magnesium New Material Co., Ltd.

102. Hong Kong Gree Electric Appliances Sales Limited

103. Hong Kong Modern Non-Ferrous Metal

104. Honsense Development Company

105. Houztek Architectural Products Co., Ltd.

106. Hui Mei Gao Aluminum Foshan Co., Ltd.

107. Huixin Aluminum

108. IDEX Dinglee Technology (Tianjin) Co., Ltd.

109. IDEX Health

110. IDEX Technology Suzhou Co., Ltd.

111. Innovative Aluminum (Hong Kong) Limited

112. iSource Asia

113. Jackson Travel Products Co., Ltd.

114. Jiangmen Jianghai District Foreign Economic Enterprise Corp. Ltd.

115. Jiangmen Jianghai Foreign Ent. Gen.

116. Jiangmen Qunxing Hardware Diecasting Co., Ltd.

117. Jiangsu Changfa Refrigeration Co.

118. Jiangyin Suncitygaylin

119. Jiangyin Trust International Inc.

120. Jiangyin Xinhong Doors and Windows Co., Ltd.

121. Jiaxing Jackson Travel Products Co., Ltd.

122. Jiaxing Taixin Metal Products Co., Ltd.

123. Jiuyan Co., Ltd.

124. JMA (HK) Company Limited

125. Johnson Precision Engineering (Suzhou) Co., Ltd.

126. Justhere Co., Ltd.

127. Kam Kiu Aluminum Products Sdn Bhd

128. Kanal Precision Aluminum Product Co., Ltd.

129. Karlton Aluminum Company Ltd.

130. Kong Ah International Company Limited

131. Kromet International Inc.

132. Kromet Intl Inc.

133. Kromet International

134. Kunshan Giant Light Metal Technology Co., Ltd.

135. Liaoning Zhong Da Industrial Aluminum Co., Ltd.

136. Liaoning Zhongwang Group Co., Ltd.

137. Liaoyang Zhongwang Aluminum Profile Co. Ltd.

138. Longkou Donghai Trade Co., Ltd.

139. Metal Tech Co Ltd.

140. Metaltek Group Co., Ltd.

141. Metaltek Metal Industry Co., Ltd.

142. Midea Air Conditioning Equipment Co., Ltd.

143. Midea Electric Trading Co., Pte Ltd.

144. Midea International Trading Co., Ltd.

145. Midea International Training Co., Ltd.

146. Miland Luck Limited

147. Nanhai Textiles Import & Export Co., Ltd.

148. New Asia Aluminum & Stainless Steel Product Co., Ltd.

149. New Zhongya Aluminum Factory

150. Nidec Sankyo (Zhejang) Corporation

151. Nidec Sankyo Zhejiang Corporation

152. Nidec Sankyo Singapore Pte. Ltd.

153. Ningbo Coaster International Co., Ltd.

154. Ningbo Hi Tech Reliable Manufacturing Company

155. Ningbo Innopower Tengda Machinery

156. Ningbo Ivy Daily Commodity Co., Ltd.

157. Ningbo Yili Import and Export Co., Ltd.

158. North China Aluminum Co., Ltd.

159. North Fenghua Aluminum Ltd.

160. Northern States Metals

161. PanAsia Aluminum (China) Limited

162. Pengcheng Aluminum Enterprise Inc.

163. Permasteelisa Hong Kong Limited

164. Permasteelisa South China Factory

165. Pingguo Aluminum Company Limited

166. Pingguo Asia Aluminum Co., Ltd.

167. Popular Plastics Company Limited

168. Precision Metal Works Ltd.

169. Press Metal International Ltd.

170. Samuel, Son & Co., Ltd.

171. Sanchuan Aluminum Co., Ltd.

172. Sanhua (Hangzhou) Micro Channel Heat Exchanger Co., Ltd.

173. Shandong Fukang Aluminum & Plastic Co. LTD.

174. Shandong Huajian Aluminum Group

175. Shangdong Huasheng Pesticide Machinery Co.

176. Shangdong Nanshan Aluminum Co., Ltd.

177. Shanghai Automobile Air-Conditioner Accessories Co Ltd.

178. Shanghai Automobile Air Conditioner Accessories Ltd.

179. Shanghai Canghai Aluminum Tube Packaging Co., Ltd.

180. Shanghai Dofiberone Composites Co. Ltd.

181. Shanghai Dongsheng Metal

182. Shanghai Shen Hang Imp & Exp Co., Ltd.

183. Shanghai Tongtai Precise Aluminum Alloy Manufacturing Co. Ltd.

184. Shanghai Top-Ranking Aluminum Products Co., LTD.

185. Shanghai Top-Ranking New Materials Co., Ltd.

186. Shenyang Yuanda Aluminum Industry Engineering Co. Ltd.

187. Shenzhen Hudson Technology Development Co.

188. Shenzhen Jiuyuan Co., Ltd.

189. Skyline Exhibit Systems (Shanghai) Co. Ltd.

190. Southwest Aluminum (Group) Co., Ltd.

191. Summit Heat Sinks Metal Co., Ltd.

192. Summit Plastics Nanjing Co. Ltd.

193. Suzhou JRP Import & Export Co., Ltd.

194. Suzhou New Hongji Precision Part Co.

195. Tai-Ao Aluminum (Taishan) Co. Ltd.

196. Taishan City Kam Kiu Aluminium Extrusion Co., Ltd.

197. Taitoh Machinery Shanghai Co. Ltd.

198. Taizhou Lifeng Manufacturing Co., Ltd.

199. Tiazhou Lifeng Manufacturing Corporation

200. Taizhou United Imp. & Exp. Co., Ltd.

201. tenKsolar (Shanghai) Co., Ltd.

202. Tianjin Ganglv Nonferrous Metal Materials Co., Ltd.

203. Tianjin Jinmao Import & Export Corp., Ltd.

204. Tianjin Ruxin Electric Heat Transmission Technology Co., Ltd.

205. Tianjin Xiandai Plastic & Aluminum Products Co., Ltd.

206. Top-Wok Metal Co., Ltd.

207. Traffic Brick Network, LLC

208. Union Aluminum (SIP) Co.

209. Union Industry (Asia) Co., Ltd.

210. USA Worldwide Door Components (Pinghu) Co., Ltd.

211. Wenzhou Shengbo Decoration & Hardware

212. Wenzhou Yongtai Electric Co., Ltd.

213. Whirlpool (Guangdong)

214. Whirlpool Canada L.P.

215. Whirlpool Microwave Products Development Ltd.

216. Worldwide Door Components, Inc.

217. WTI Building Products, Ltd.

218. Wuxi Lutong Fiberglass Doors Co., Ltd.

219. Xin Wei Aluminum Co.

220. Xin Wei Aluminum Company Limited

221. Xinya Aluminum & Stainless Steel Product Co., Ltd.

222. Yuyao Fanshun Import & Export Co., Ltd.

223. Yuyao Haoshen Import & Export

224. Zahoqing China Square Industry Limited

225. Zhaoqing Asia Aluminum Factory Company Ltd.

226. Zhaoqing China Square Industrial Ltd.

227. Zhaoqing China Square Industry Limited

228. Zhaoqing New Zhongya Aluminum Co., Ltd.

229. Zhejiang Anji Xinxiang Aluminum Co., Ltd.

230. Zhejiang Lilies Industrial and Commercial Co.

231. Zhejiang Yili Automobile Air Condition Co., Ltd.

232. Zhejiang Yongkang Listar Aluminum Industry Co., Ltd.

233. Zhejiang Zhengte Group Co., Ltd.

234. Zhenjiang Xinlong Group Co., Ltd.

235. Zhongshan Daya Hardware Co., Ltd.

236. Zhongshan Gold Mountain Aluminum Factory Ltd.

237. Zhongya Shaped Aluminum (HK) Holding Limited

238. Zhuhai Runxingtai Electrical Equipment Co., Ltd.

[FR Doc. 2019-15510 Filed 7-19-19; 8:45 am]

BILLING CODE 3510-DS-P